U.S.-CHINA ECONOMIC AND SECURITY REVIEW COMMISSION

Notice of Open Public Meeting

AGENCY: U.S.-China Economic and Security Review Commission.

ACTION: Notice of open public meeting.

SUMMARY: Notice is hereby given of the following meeting of the U.S.-China Economic and Security Review Commission. The Commission is mandated by Congress to investigate, assess, and report to Congress annually on the “the national security implications of the economic relationship between the United States and the People's Republic of China.” Pursuant to this mandate, the Commission will hold a public meeting to review and edit drafts of the 2025 Annual Report to Congress.

DATES: The meeting is scheduled for October 9, 2025 at 9:00 a.m.

Reach out to the below contact for any updates to this schedule.

ADDRESSES: 444 North Capitol Street NW, Room 333, Washington, DC 20001. Public seating is limited and will be available on a “first-come, first-served” basis. Reservations are not required to attend.

FOR FURTHER INFORMATION CONTACT: Any member of the public seeking further information concerning the meetings should contact Jameson Cunningham, 444 North Capitol Street NW, Suite 602, Washington, DC 20001; telephone: 202-624-1496, or via email at jcunningham@uscc.gov. Reservations are not required to attend the meetings.

ADA Accessibility: For questions about the accessibility of the event or to request an accommodation, please contact Jameson Cunningham at 202-624-1496, or via email at jcunningham@uscc.gov. Requests for an accommodation should be made as soon as possible, and at least five business days prior to the event.

SUPPLEMENTARY INFORMATION:

Purpose of Meeting: Pursuant to the Commission's mandate, members of the Commission will meet to review and edit drafts of the 2025 Annual Report to Congress. Relevant provisions of the Federal Advisory Committee Act (FACA) apply to the Commission with the enactment of the Science, State, Justice, Commerce and Related Agencies Appropriations Act, 2006 that was signed into law on November 22, 2005 (Pub. L. 109-108). In accordance with applicable provisions of FACA, the Commission opens to the public certain meetings concerning the substance of its 2025 Annual Report to Congress.

Topics to Be Discussed: The review and editing session will cover material prepared for the 2025 Annual Report based on Commission hearings this year; a review of economics, trade, security and foreign affairs developments in 2025 including those relating to Taiwan and Hong Kong; and other matters in the Commission's mandate the Commission chooses to take up in deliberation of the Annual Report.

Required Accessibility Statement: This meeting will be open to the public. The Commission may recess the meeting to address administrative issues in closed session. The Commission will also recess the meeting around noon for a lunch break. At the beginning of the lunch break, the Chair will announce what time the meeting will reconvene.

Authority: Congress created the U.S.-China Economic and Security Review Commission in 2000 in the National Defense Authorization Act (Pub. L. 106-398), as amended by Public Laws No. 107-67 (November 12, 2001), No. 108-7 (February 20, 2003), 109-108 (November 22, 2005), No. 110-161 (December 26, 2007), No. 113-291 (December 19, 2014), and No. 117-286 (December 27, 2022).

Dated: September 16, 2025.
Christopher P. Fioravante,
Deputy Executive Director, U.S.-China Economic and Security Review Commission.

[FR Doc. 2025-18081 Filed 9-17-25; 8:45 am]

BILLING CODE 1137-00-P